DEPARTMENT OF HEALTH AND HUMAN SERVICES

National Institutes of Health

Center for Scientific Review; Amended Notice of Meeting

Notice is hereby given of a change in the meeting of the Development-1 Study Section, October 8, 2013, 8:00 a.m. to October 8, 2013, 5:00 p.m., Torrance Marriott South Bay, 3635 Fashion Way, Torrance, CA 90503 which was published in the Federal Register on September 10, 2013, 78 FR 55267.

The meeting will be held on November 18, 2013 from 8:00 a.m. to 6:00 p.m. The meeting location remains the same. The meeting is closed to the public.

Dated: October 28, 2013.
Anna Snouffer,
Deputy Director, Office of Federal Advisory Committee Policy.

[FR Doc. 2013-25915 Filed 10-30-13; 8:45 am]

BILLING CODE 4140-01-P